DEPARTMENT OF COMMERCE

National Oceanic and Atmospheric Administration

RIN 0648-XT03

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Scientific and Statistical Committee (SSC), Spiny Lobster Committee, Law Enforcement Committee, a joint meeting of its Executive and Finance Committees, Protected Resources Committee, Ecosystem-Based Management Committee, Personnel Committee (Closed Session), Dolphin/Wahoo Committee, Mackerel Committee, Snapper Grouper Committee, and a meeting of the full Council. The Council will hold an informal public question and answer session with the NMFS Regional Administrator and Council Chairman as well as open public comment periods relative to agenda items. See SUPPLEMENTARY INFORMATION for additional details.

DATES: The meeting will be held December 6 - 11, 2009. See SUPPLEMENTARY INFORMATION for specific dates and times.

ADDRESSES: The meeting will be held at the Sheraton Atlantic Beach Oceanfront Hotel, 2717 W. Fort Macon Road, Atlantic Beach, NC 28512; telephone: (800) 624-8875 or (252) 240-1155; fax: (252) 240-1452. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates:

1. Scientific and Statistical Committee (SSC) Meeting: December 6, 2009, 3 p.m. until 6 p.m., December 7, 2009, 8 a.m. until 5:30 p.m., and December 8, 2009, 8 a.m. until 3 p.m.

The SSC will review and provide recommendations as appropriate on administrative and planning documents relative to the Southeast Data, Assessment, and Review (SEDAR) stock assessment program, and review and finalize terms of reference for SEDAR assessments as appropriate. The Committee will receive updates on the status of Amendments 15B and 16 to the Snapper Grouper Fishery Management Plan (FMP), the Fishery Ecosystem Plan (FEP), and Comprehensive Ecosystem-Based Amendment 1. The SSC will review and provide recommendations as appropriate relative to draft Amendment 18 to the Coastal Migratory Pelagics (mackerel) FMP to address requirements of the reauthorized Magnuson-Stevens Fisheries Conservation and Management Act, Amendments 17A, 17B, 18, and 20 to the Snapper Grouper FMP, Amendment 5 to the Golden Crab FMP, and draft Amendment 10 to the Joint Gulf of Mexico and South Atlantic Spiny Lobster FMP. The SSC will also review and provide recommendations as appropriate on the Comprehensive Annual Catch Limit (ACL) Amendment and Comprehensive Ecosystem-Based Amendment (CE-BA) 2.

Amendment 17A to the Snapper Grouper FMP addresses requirements of the reauthorized Magnuson-Stevens Act to end overfishing and rebuild the red snapper stock in the South Atlantic and establishes a monitoring program, and Amendment 17B addresses requirements of the Act regarding nine other species in the snapper grouper fishery management complex currently listed as undergoing overfishing. Amendment 18 to the Snapper Grouper FMP addresses several management measures relative to the management complex, including expansion of the management unit northward of the Council's current jurisdiction, limiting participation in the commercial fishery for golden tilefish, modifications of management for the black sea bass pot fishery, allocations, changes to the golden tilefish fishing year, improvements to fisheries statistics, and designation of Essential Fish Habitat in northern areas. Amendment 20 to the Snapper Grouper FMP addresses changes to the Wreckfish commercial fishery Individual Transferable Quota (ITQ) program. Amendment 5 to the Golden Crab FMP addresses requirements of the reauthorized Magnuson-Stevens Act to establish ACLs and Accountability Measures for the golden crab fishery. The draft joint Spiny Lobster Amendment 10 currently includes measures addressing tailing permits, the use of “shorts” or undersized lobster in the fishery, and management authority issues. The Comprehensive ACL Amendment addresses requirements to establish ACLs and AMs for all species under the Council's jurisdiction not currently listed as undergoing overfishing as required by the reauthorized Magnuson-Stevens Act. Comprehensive Ecosystem-Based Amendment 2 addresses management measures relative to the harvest of octocorals.

2. Spiny Lobster Committee Meeting: December 7, 2009, 1 p.m. until 2 p.m.

The Spiny Lobster Committee will provide recommendations for the appointment of individuals to serve on the SEDAR stock assessment update for spiny lobster and terms of reference. The Committee will also review results of the Gulf of Mexico Fishery Management Council's scoping meetings and actions, review NOAA Fisheries Service's Biological Opinion, and provide guidance to staff regarding draft Amendment 10 to the Spiny Lobster FMP.

3. Law Enforcement Committee: December 7, 2009, 2 p.m. until 3 p.m.

The Law Enforcement Committee will discuss criteria for a Law Enforcement Officer of the Year award and provide recommendations, receive briefings on the Surveillance and Enforcement of Remote Marine Protected Areas (SERMA) Workshop and a Coral Program FY 2010 proposal, and discuss alternatives related to mackerel nets and provide recommendations as appropriate.

4. Joint Executive and Finance Committees Meeting: December 7, 2009, 3 p.m. until 4 p.m.

The Committees will review the status of the Calendar Year (CY) 2009 budget, the FMP/Amendment timelines, and the Congressional 2010 budget. The Committees will also review the Council's proposed CY 2010 budget.

5. Protected Resources Committee Meeting: December 7, 2009, 4 p.m. until 5:30 p.m.

The Protected Resources Committee will receive presentations regarding the bycatch of shortnose sturgeon, and an update from NOAA Fisheries Southeast Regional Office regarding the following: Petition to list shortnose sturgeon under the Endangered Species Act (ESA); sea turtle take in the large mesh flounder fishery in NC; Biological Opinion for the shrimp fishery due to the incidental take of smalltooth sawfish; and the Center for Biological Diversity's petition to list 80 species of coral under the ESA.

6. Ecosystem-Based Management Committee Meeting: December 8, 2009, 8:30 a.m. until 11 a.m.

The Ecosystem-Based Management Committee will receive an overview of changes to Comprehensive Ecosystem-Based Amendment 2 options paper, the SSC's recommendations on CE-BA 2, a briefing on Florida's Marine Life regulations, and provide guidance to staff regarding CE-BA 2. The Committee will also receive updates from the SERMA Workshop, Coral Reef Conservation Program FY2010 proposal, and Ecosystem Coordination Activities.

7. Dolphin Wahoo Committee Meeting: December 8, 2009, 11 a.m. until 12 noon

The Dolphin Wahoo Committee will review SSC input on the draft ACL Amendment and provide recommendations to staff.

8. Mackerel Committee Meeting: December 8, 2009, 1:30 p.m. until 2:30 p.m.

The Mackerel Committee will review the results from the Gulf of Mexico Fishery Management Council's public scoping meetings and the Amendment 18 decision document addressing requirements of the Magnuson-Stevens Act, discuss alternatives to address cutting mackerel nets/ trip limits, and discuss legal issues relative to the State of South Carolina regulating dolphin prior to federal regulations.

9. Snapper Grouper Committee Meeting: December 8, 2009, 2:30 p.m. until 5 p.m., December 9, 2009, 8:30 a.m. until 5:30 p.m., and December 10, 2009, 9:30 a.m. until 12 noon

The Snapper Grouper Committee will receive updates on Oculina Bank outreach, status of the Red Snapper Interim Rule request, and a presentation on red snapper rebuilding projections. The Committee will also receive a report relative to snapper grouper management from the SSC. The Committee will review management alternatives in Amendment 17A and modify the document as necessary, including the selection of preferred alternatives. The Committee will review Amendment 17B and the Proposed Rule, modify the document as necessary and develop recommendations on submission of the amendment to the Secretary of Commerce. The Committee will review Amendments 18 and 20, modify the documents as necessary and provide guidance as appropriate. The Committee will review the Comprehensive ACL Amendment alternatives, modify the document as necessary and provide guidance to staff. The Committee will also recommend participants and terms of reference for the black sea bass 2010 SEDAR stock assessment update.

NOTE: There will be an informal public question and answer session with NOAA Fisheries Services' Regional Administrator and the Council Chairman, on December 9, 2009 beginning at 5:30 p.m.

10. Personnel Committee Meeting: December 10, 2009, 8:30 a.m. until 9:30 a.m. (CLOSED SESSION)

The Personnel Committee will meet in a closed session to discuss personnel issues.

11. Council Session: December 10, 2009, 1:30 p.m. until 6 p.m. and December 11, 2009, 8:30 a.m. until 12 noon

Council Session: December 10, 1:30 p.m. until 6 p.m.

From 1:30 p.m. - 1:45 p.m., the Council will call the meeting to order, adopt the agenda, and approve the September 2009 meeting minutes.

From 1:45 p.m. - 2 p.m., the Council will receive a report from the SSC.

NOTE: Interested persons will be provided the opportunity to present oral or written statements regarding matters on the Council agenda beginning at 2 p.m. on Thursday, December 10, 2009. The amount of time provided to individuals will be determined by the Chairman based on the number of individuals wishing to comment.

The Council will also take public comment regarding Amendment 17B to the Snapper Grouper FMP during this time period.

From 4:30 p.m. - 5:15 p.m., the Council will receive a report from the Snapper Grouper Committee, consider recommendations, and take action as appropriate.

From 5:15 p.m. - 5:30 p.m., the Council will receive a report from the SSC Selection Committee.

From 5:30 p.m. - 5:45 p.m., the Council will receive a report from the Spiny Lobster Committee, consider recommendations and take action as appropriate.

From 5:45 p.m. - 6 p.m., the Council will receive a report from the Law Enforcement Committee, consider recommendations and take action as appropriate.

Council Session: December 11, 2009, 8:30 a.m. until 12 noon

From 8:30 a.m. - 9 a.m., the Council will receive legal briefing on litigation (CLOSED SESSION)

From 9 a.m. - 9:15 a.m., the Council will receive a report from the Joint Executive Finance Committee, consider recommendations, and take action as appropriate.

From 9:15 a.m. - 9:30 a.m., the Council will receive a report from the Protected Resources Committee, consider recommendations and take action as appropriate.

From 9:30 a.m. - 9:45 a.m., the Council will receive a report from the Ecosystem-Based Management Committee, consider recommendations and take action as appropriate.

From 9:45 a.m. - 10 a.m., the Council will receive a report from the Dolphin Wahoo Committee, consider recommendations and take action as appropriate.

From 10 a.m. - 10:15 a.m., the Council will receive a report from the Mackerel Committee, consider recommendations and take action as appropriate.

From 10:15 a.m. - 10:30 a.m., the Council will review and develop recommendations on Experimental Fishing Permits as necessary.

From 10:30 a.m. - 12 noon, the Council will receive a status report from NOAA Fisheries Service on commercial quotas by fishing year for: Atlantic king mackerel, Gulf king mackerel (eastern zone), Atlantic Spanish mackerel, snowy grouper, golden tilefish, wreckfish, greater amberjack, South Atlantic Octocorals and dolphin (soft quota ratios). The Council will also receive a status report on Snapper Grouper Amendment 13C quotas, status of data collection programs to address the black sea bass stock assessment update, and the status of recreational catches versus allocations for Atlantic king mackerel, Atlantic Spanish mackerel, black sea bass, golden tilefish, snowy grouper, red porgy, greater amberjack, and dolphin. The Council will also receive agency and liaison reports, discuss other business, and upcoming meetings.

Documents regarding these issues are available from the Council office (see ADDRESSES).

Although non-emergency issues not contained in this agenda may come before this Council for discussion, those issues may not be the subjects of formal final Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by December 4, 2009.

Dated: November 17, 2009.
Tracey L. Thompson,
Acting Director, Office of Sustainable Fisheries, National Marine Fisheries Service.

[FR Doc. E9-27944 Filed 11-19-09; 8:45 am]

BILLING CODE 3510-22-S